DEPARTMENT OF ENERGY

Federal Energy Regulatory Commission

[Docket No. CP00-73-000]

Williston Basin Interstate Pipeline Company; Notice of Application

February 4, 2000.

Take notice that on January 27, 2000, Williston Basin Interstate Pipeline Company (Williston Basin), P.O. Box 5601, Bismarck, North Dakota 58506-5601, filed in Docket No. CP00-73-000, an application pursuant to Section 7(b) of the Natural Gas Act (NGA), and Part 157 of the Commission's Regulations thereunder (18 CFR 157.7 and 157.18), for an order permitting and approving the abandonment of a delivery tap, located in Carbon County, Montana, all as more fully set forth in the request which is on file with the Commission and open to public inspection. The application may be viewed on the web at www.ferc.fed.us Call (202) 208-2222 for assistance.

Williston Basin states that on December 29, 1999, a fire destroyed the Carbon County Machine Shop (Shop), near Bridger, Montana. Williston Basin owned a delivery tap and riser located approximately eight inches from the outside wall of the shop. this delivery tap had not been used in several years and the shop was served by the local distribution company. Carbon County authorities requested Williston Basin to remove its tap and riser immediately in order to ensure the safety of the Carbon County demolition crew when the building was being demolished and removed. On January 4, 2000, Williston Basin removed the tap, riser and approximately 20 feet of 1-inch diameter pipeline.

Any questions regarding this application should be directed to Keith A. Tiggelaar, Manager, Regulatory Affairs for Williston Basin, P.O. Box 5601, Bismarck, North Dakota 58506-5601, at (701) 530-1560.

Any person desiring to be heard or to make any protest with reference to said application should, on or before February 25, 2000, file with the Federal Energy Regulatory Commission, 888 First Street, N.E., Washington, D.C. 20426, a protest or a motion to intervene in accordance with the requirements of the Commission's Rules of Practice and Procedure (18 CFR 385.211 or 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedures, a hearing will be held without further notice before the Commission on this application if no protest or motion to intervene is filed with the time required herein. At that time, the Commission, on its own review of the matter, will determine whether granting the abandonment is required by the public convenience and necessity. If a protest or motion for leave to intervene is timely field, or if the Commission on its own motion believes that a formal hearing is required, further notice of such hearing will be duly given.

Under the procedure herein provided for, unless otherwise advised, it will be unnecessary for Williston Basin to appear or to be represented at the hearing.

Linwood A. Watson, Jr.,
Acting Secretary.

[FR Doc. 00-3046 Filed 2-9-00; 8:45 am]

BILLING CODE 6717-01-M